DEPARTMENT OF LABOR

Office of the Secretary

Submission for OMB Review; Comment Request

December 11, 2003.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by contacting the Department of Labor. To obtain documentation, contact Darrin King on 202-693-4129 (this is not a toll-free number) or E-Mail: king.darrin@dol.gov.

Comments should be sent to Office of Information and Regulatory Affairs, Attn: OMB Desk Officer for the Employment Standards Administration (ESA), Office of Management and Budget, Room 10235, Washington, DC 20503 (202-395-7316/this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration.

Type of Review: Extension of a currently approved collection.

Title: Notice of issuance of insurance policy.

OMB Number: 1215-0059.

Affected Public: Business or other for-profit and State, Local, or Tribal Government.

Type of Response: Reporting.

Frequency: Annually.

Number of Respondents: 60.

Annual Responses: 4,000.

Estimated Time Per Response: 10 minutes.

Total Burden Hours: 667.

Total Annualized Capital/Startup Costs: $0.

Total Annual Costs (operating/maintaining systems or purchasing services): $1,800.

Description: The CM-921 provides insurance carriers with the means to supply the Department of Labor with information showing that a responsible coal mine operator is insured against its Federal Black Lung compensation liability pursuant to the requirements established in the Federal Black Lung Benefits Act. The CM-921 is authorized by 20 CFR part V, subpart C, 726.208-213.

Agency: Employment Standards Administration.

Type of Review: Extension of a currently approved collection.

Title: Representative Fee Request.

OMB Number: 1215-0078.

Affected Public: Business or other for-profit and individuals or households.

Type of Response: Reporting.

Frequency: On occasion.

Number of Respondents: 12,700.

Number of Annual Responses: 12,700.

Estimated Time Per Response: 30 minutes for Longshore filings and 1 hour for FECA filings.

Total Burden Hours: 7,850.

Total Annualized Capital/Startup Costs: $0.

Total Annual Costs (operating/maintaining systems or purchasing services): $17,215.

Description: Individuals filing for compensation benefits with the Office of Workers' Compensation Programs (OWCP) may be represented by an attorney or other representative. The representative is entitled to request a fee for services under the Federal Employees' Compensation Act (FECA), 20 CFR 10.700-703, and under the Longshore and Harbor Workers' Compensation Act (LHWCA), 20 CFR 702.132. The fee must be approved by the OWCP before any demand for payment can be made by the representative. This information collection request sets forth the criteria for the information, which must be presented by the respondent in order to have the fee approved by the OWCP. The information collection does not have a particular form or format; the respondent must present the information in any format which is convenient and which meets all the required information criteria. The Department of Labor seeks the extension of approval to collect this information in order to carry out its responsibility to approve representative fees under the two Acts.

Agency: Employment Standards Administration.

Type of Review: Extension of a currently approved collection.

Title: Request for Employment Information.

OMB Number: 1215-0105.

Affected Public: Business or other for-profit.

Type of Response: Reporting.

Frequency: On occasion.

Number of Respondents: 500.

Number of Annual Responses: 500.

Estimated Time Per Response: 15 minutes.

Total Burden Hours: 125.

Total Annualized Capital/Startup Costs: $0.

Total Annual Costs (operating/maintaining systems or purchasing services): $200.

Description: The Form CA-1027 is used to collect information about a claimant's employment. The information is necessary to determine continued eligibility for compensation payments under the Federal Employee's Compensation Act (5 U.S.C. 8106).

Agency: Employment Standards Administration.

Type of Review: Extension of a currently approved collection.

Title: Provider Enrollment Form.

OMB Number: 1215-0137.

Affected Public: Business or other for-profit.

Type of Response: Reporting.

Frequency: On occasion.

Number of Respondents: 12,600.

Number of Annual Responses: 12,600.

Estimated Time Per Response: 8 minutes.

Total Burden Hours: 1,676.

Total Annualized Capital/Startup Costs: $0.

Total Annual Costs (operating/maintaining systems or purchasing services): $5,040.

Description: The Office of Workers' Compensation Programs (OWCP) administers the Federal Employees' Compensation Act (FECA), 5 U.S.C. 8101, et seq., the Black Lung Benefits Act (BLBA), 30 U.S.C. 901 et seq., and the Energy Employees Occupational Illness Compensation Program Act of 2000 (EEOICPA), 42 U.S.C. 7384 et seq., and the Longshore and Harbor Workers' Compensation Act (LHWCA), 33 U.S.C. 901 et seq. These statutes require OWCP to pay for medical and vocational rehabilitation services provided to beneficiaries. In order for OWCP's billing contractor to pay providers of these services with its automated bill processing system, providers must “enroll” with one or more of the OWCP programs that administer the statues by submitting certain profile information, including identifying information, tax I.D. information, and whether they possess specialty or sub-specialty training. Form OWCP-1168 is used to obtain this information from each provider. If this information is not obtained before the provider submits his or her first bill, the bill payment process is prolonged and increases the burden on providers. The Department of Labor seeks approval for the extension of this information collection in order to carry out a wide range of automated medical bill “edits”, such as, the identification of duplicate billings, the application of pertinent fee schedules that apply to the programs, utilization review, and fraud and abuse detection. This information is also used to furnish timely and detailed reports to providers on the status of previously submitted bills.

Ira L. Mills,
Departmental Clearance Officer.

[FR Doc. 03-31538 Filed 12-22-03; 8:45 am]

BILLING CODE 4510-CK-M